DEPARTMENT OF TRANSPORTATION

Federal Aviation Administration

Public Notice for Waiver of Aeronautical Land-Use Assurance; Presque Isle County/Rogers City Airport, Rogers City, Michigan

AGENCY: Federal Aviation Administration, DOT.

ACTION: Notice of intent of waiver with respect to land.

SUMMARY: The Federal Aviation Administration (FAA) is considering a proposal to change a portion of the airport from aeronautical use to non-aeronautical use and to authorize the exchange of the airport property. The proposal consists of one parcel totaling approximately 5.28 acres. Current use and present condition is undeveloped vacant land. The land was originally sold to the County from Bradley Reality Company, December 27, 1935. There are no impacts to the airport by allowing the airport to dispose of the property. The proposed land will be exchanged for school district property needed to meet the Object Free Area requirements for the runway. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before August 20, 2003.

FOR FURTHER INFORMATION CONTACT: Ms. Stephanie Swann, Program Manager, Federal Aviation Administration, Great Lakes Region, Detroit Airports District Office, DET ADO-613, Metro Airport Center, 11677 South Wayne Road, Suite 107, Romulus, Michigan 48174. Telephone Number: 734-229-2945; FAX Number: 734-229-2950. Documents reflecting this FAA action may be reviewed at this same location or at Presque Isle County/Rogers City Airport, Rogers City, Michigan.

SUPPLEMENTARY INFORMATION: Following is a legal description of the property located in Rogers City, County of Presque Isle, Michigan, and described as follows: Commencing at the east one-quarter corner of section 22, town 35 north, range 5 east, Presque Isle County, state of Michigan, described as: Thence S87°57′57″ W 1342.14 feet to the point of beginning; thence S 01°05′26″ E along the east one-eighth line of said section 1166.49 feet; thence S87°53′41″ W 197.40 feet; thence N01°05′24″ W 1166.73 feet; thence N87°57′57″ E 197.39 feet to the point of beginning. Said parcel contains approximately 5.28 acres.

Issued in Romulus, Michigan on June 2, 2003.
Irene R. Porter,
Manager, Detroit Airports District Office, FAA, Great Lakes Region.

[FR Doc. 03-18385 Filed 7-18-03; 8:45 am]

BILLING CODE 4910-13-M